DEPARTMENT OF THE INTERIOR

Office of the Secretary

[245D0102DM, DS600000, DLSN00000.000000, DX6CS25; OMB Control Number 1090-0011]

Agency Information Collection Activities; DOI Generic Clearance for the Collection of Qualitative Feedback on Agency Service Delivery

AGENCY: Office of the Secretary, Interior.

ACTION: Notice of information collection; request for comment.

SUMMARY: In accordance with the Paperwork Reduction Act of 1995, we, the Office of the Secretary are proposing to renew an information collection with revisions.

DATES: Interested persons are invited to submit comments on or before June 11, 2024.

ADDRESSES: Written comments and recommendations for the proposed information collection should be sent to the Departmental Information Collection Clearance Officer (ICCO), 1849 C Street NW, Washington, DC 20240; or by email to PRA@ios.doi.gov. Please reference Office of Management and Budget (OMB) Control Number 1090-0011 in the subject line of your comments.

FOR FURTHER INFORMATION CONTACT: To request additional information about this ICR, contact Jeffrey Parrillo, Departmental ICCO, 1849 C Street NW, Washington, DC 20240; by telephone 202-208-7072; or by email to PRA@ios.doi.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This information collection activity will garner qualitative customer and stakeholder feedback in an efficient, timely manner, in accordance with the Administration's commitment to improving service delivery. By qualitative feedback, we mean information that provides useful insights on perceptions and opinions but are not statistical surveys that yield quantitative results that can be generalized to the population of study. This feedback will provide insights into customer or stakeholder perceptions, experiences, and expectations, provide an early warning of issues with service, or focus attention on areas where communication, training or changes in operations might improve delivery of products or services. These collections will allow for ongoing, collaborative, and actionable communications between the Agency and its customers and stakeholders. It will also allow feedback to contribute directly to the improvement of program management. Requests under this generic clearance will be submitted to OMB via Form DI-4011, “Generic Clearance for the Collection of Qualitative Feedback on Agency Service Delivery.”

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The types of collections that this generic clearance covers include, but are not limited to:

• Customer comment cards/complaint forms;

• Focus Groups of customers, potential customers, delivery partners, or other stakeholders;

• One-time or panel discussion groups;

• Moderated, un-moderated, in-person, and/or remote-usability studies;

• Qualitative customer satisfaction surveys (e.g., post-transaction surveys; opt-out web surveys);

• Customer satisfaction qualitative surveys (e.g., those designed to detect early warning signs of dissatisfaction with agency service delivery); and

• Advance testing of non-controversial information collections, including Federal forms, as part of focus groups, in-person observations of users' perceptions of the forms and questions (cognitive testing), web-based experiments, and randomized controlled experiments to refine questions (in accordance with OMB Memorandum “Testing and Simplifying Federal Forms”, August 9, 2012).

A proposed collection for approval under this generic clearance will only be submitted to OMB if it meets the following conditions:

• Information gathered will be used only internally for general service improvement and program management purposes and is not intended for release outside of the agency;

• Information gathered will not be used for the purpose of substantially informing influential policy decisions;

• Information gathered will be qualitative; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• With the exception of information needed to provide renumeration for participants of focus groups and cognitive laboratory studies, personally identifiable information (PII) is collected only to the extent necessary and is not retained; and

• Bureaus/offices will utilize the pre-approved Suite of Questions when developing questionnaires for submission to OMB under the DOI “Fast Track” generic clearance. Questionnaires should be limited to no more than 15 questions (with a maximum of 2 open-ended questions) and should take no longer than 10-15 minutes to complete.

Proposed Revisions

We propose to revise the Suite of Questions to incorporate the following updates:

(1) Add questions related to:

a. Tribal specific areas of Department of the Interior work.

b. Communication use and preferences.

c. Planning and logistics, including expenses, activities, motivations and future plans.

d. Science and resources.

e. Program evaluation, including quality and feedback on research activities and products.

f. Conservation and restoration training, safety, and respondent/organization roles.

g. Hunting experience and satisfaction.

h. Organization details and roles.

i. Opinions regarding participation in a survey.

j. Use of mobile application technology.

k. Preference for technology platforms used for virtual meetings.

(2) Modify existing questions to:

a. Be applicable to a wider range of the Department of the Interior Bureaus and Offices.

b. Streamline response options to reflect best practices used in other Federal land management collections.

c. Correct grammar, punctuation, and minor wording changes to improve clarity.

(3) Remove questions which are duplicative of other questions contained in the Suite of Questions.

(4) Clarify and streamline the use of the Likert scale questions to measure opinions, attitudes, or behaviors more accurately.

A copy of the draft suite of questions is available to the public for viewing by submitting an email request to the Departmental Information Collection Clearance Officer as provided in the FOR FURTHER INFORMATION CONTACT section of this notice.

Title of Collection: DOI Generic Clearance for the Collection of Qualitative Feedback on Agency Service Delivery.

OMB Control Number: 1090-0011.

Form Number: DI-4011.

Type of Review: Revision of a currently approved collection.

Respondents/Affected Public: Individuals/households; businesses; and, State, local, and Tribal governments.

Total Estimated Number of Annual Respondents: 95,000.

Total Estimated Number of Annual Responses: 95,000.

Estimated Average Completion Time per Response: 10 minutes.

Total Estimated Number of Annual Burden Hours: 15,833.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2024-07828 Filed 4-11-24; 8:45 am]

BILLING CODE 4334-63-P